DEPARTMENT OF THE INTERIOR

Fish and Wildlife Service

Information Collection Renewal To Be Sent to the Office of Management and Budget (OMB) for Approval Under the Paperwork Reduction Act; OMB Control Number 1018-0124; Migratory Bird Subsistence Harvest Household Survey

AGENCY: Fish and Wildlife Service, Interior.

ACTION: Notice; request for comments.

SUMMARY: We (Fish and Wildlife Service) will ask OMB to renew approval for the information collection associated with our migratory bird subsistence harvest household survey. The current OMB control number for this information collection is 1018-0124, which expires on October 31, 2006. We will request that OMB renew approval of this information collection for a 3-year term. As required by the Paperwork Reduction Act of 1995 and as part of our continuing efforts to reduce paperwork and respondent burden, we invite the general public and other Federal agencies to take this opportunity to comment on this information collection.

DATES: You must submit comments on or before August 21, 2006.

ADDRESSES: Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this information collection request, contact Hope Grey at one of the addresses above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

The Migratory Bird Treaty Act (16 U.S.C. 703-712) and the Fish and Wildlife Act of 1956 (16 U.S.C. 742d) designate the Department of the Interior as the key agency responsible for managing migratory bird populations that frequent the United States and for setting harvest regulations that allow for the conservation of those populations. These responsibilities include gathering accurate geographical and temporal data on various characteristics of migratory bird harvest. We use those data to promulgate harvest regulations. Annually, we adjust harvest regulations as needed to provide a maximum of subsistence harvest opportunity while keeping migratory bird populations at desired levels.

The Migratory Bird Treaty Act Protocol Amendment (1995) (Amendment) provides for the customary and traditional use of migratory birds and their eggs for subsistence use by indigenous inhabitants of Alaska. The Amendment, however, states that its intent is not to cause significant increases in the take of species of migratory birds relative to their continental population sizes. A May 20, 1996, submittal letter from the Department of State to the White House accompanied the Amendment and specified the need for harvest monitoring. The letter stated that the Fish and Wildlife Service, the Alaska Department of Fish and Game, and Native organizations cooperatively would collect harvest estimates within the subsistence eligible areas. Harvest survey data help ensure that customary and traditional use of migratory birds and their eggs for subsistence use by indigenous inhabitants of Alaska does not significantly increase the take of species of migratory birds relative to their continental population sizes.

From 1989 to 2004, we monitored subsistence harvest in Alaska through the use of annual household surveys in the most heavily used subsistence harvest areas; e.g., Yukon-Kuskokwim Delta. In 2004, we began monitoring subsistence harvest in subsistence eligible areas Statewide. We presently rotate survey areas due to budget constraints. This monitoring enables us to track significant changes or trends in levels of harvest and user participation.

We gather information on the annual subsistence harvest of 54 species of birds (including geese, ducks, swans, cranes, loons, seabirds, shorebirds, and upland game birds) through surveys of households in the subsistence eligible areas of Alaska. Annually, local village resident surveyors produce lists of all households in each village and provide survey forms to randomly selected households. We combine the estimates of harvest per household with the complete list of households in the subsistence eligible areas to obtain estimates of the total annual harvest. We use four forms to collect the harvest information. We will aggregate all information collected and use it only for statistical purposes. We do not arrange or retrieve forms by a personal identifier.

Title: List of Occupied Households—Village Harvest Survey Household Enrollment Form.

OMB Control Number: 1018-0124.

Form Number: 7-FW-100.

Frequency of Collection: Once per year.

Description of Respondents: Local village surveyors.

This form contains information on the village name and number, surveyor's name, year of survey, total houses, house number and household name, and harvest activity level. The local village surveyor maintains this form.

Title: Households Separated by Hunting Category—Village Harvest Survey Household Selection by Activity Level.

OMB Control Number: 1018-0124.

Form Number: 7-FW-101.

Frequency of Collection: Once per year.

Description of Respondents: Local village surveyors.

This form provides information on the village name and number, surveyor's name, year, total houses, and activity level. The local surveyor takes each household listed on form 7-FW-100 and categorizes it on this form according to activity level. The local village surveyor provides this form to the Service.

Title: Household Permission Slip.

OMB Control Number: 1018-0124.

Form Number: 7-FW-102.

Frequency of Collection: Once per year.

Description of Respondents: Households within the subsistence eligible areas of Alaska (Alaska Peninsula, Kodiak Archipelago, the Aleutian Islands, or in areas north and west of the Alaska Range (50 CFR 92.5)).

The local village surveyor (1) asks each household if that household will participate in the subsistence harvest survey and notes a “yes” or “no” on a permission slip; (2) provides a survey form (described below) to each household with a “yes” permission slip; and (3) provides the completed permission slip to the Service.

Title: Subsistence Household Survey.

OMB Control Number: 1018-0124.

Form Numbers: 7-FW-103, 7-FW-103a (Interior Alaska), and 7-FW-103b (Southern Coastal Alaska).

Frequency of Collection: Three times per year.

Description of Respondents: Households within the subsistence eligible areas of Alaska (Alaska Peninsula, Kodiak Archipelago, the Aleutian Islands, or in areas north and west of the Alaska Range (50 CFR 92.5)).

There are three survey forms. The form that a household receives depends on the household's location. Each survey form consists of three pages, one page each for spring, summer, and fall (fall/winter for the Southern Coastal Alaska form). Each page contains bird illustrations, with spaces beside each illustration to mark down numbers of birds and eggs taken. The household number is on each page of the survey form, along with a village number. The local village surveyor provides completed survey forms to the Fish and Wildlife Service.

Form | Number of respondents | Annual number of responses | Avg. time/response (in minutes) | Total annual burden hours
7-FW-100 | 182 | 23,000 | 1 | 383
7-FW-101 | 182 | 182 | 30 | 91
7-FW-102 | 14,000 | 14,000 | 5 | 1,167
7-FW-103, a, b | 11,500 | 34,500 | 5 | 2,875

We invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents. Comments submitted in response to this notice are a matter of public record. We will include and/or summarize each comment in our request to OMB to renew approval for this information collection.

Dated: June 8, 2006.
Hope Grey,
Information Collection Clearance Officer, Fish and Wildlife Service.

[FR Doc. E6-9734 Filed 6-20-06; 8:45 am]

BILLING CODE 4310-55-P